DEPARTMENT OF LABOR

Employment and Training Administration

[TA-W-64,947]

Philip Morris USA, Cabarrus Manufacturing Plant, a Subsidiary of Altria Group, Inc., Concord, NC; Notice of Negative Determination on Reconsideration

On March 16, 2009, the Department issued an Affirmative Determination Regarding Application for Reconsideration for the workers and former workers of the subject firm. The notice was published in the Federal Register on March 31, 2009 (74 FR 14593).

The initial investigation resulted in a negative determination based on the finding that imports of cigarettes did not contribute importantly to worker separations at the subject firm and no shift of production to a foreign source occurred.

In the request for reconsideration, the petitioner alleged that the subject firm shifted production of cigarettes to Colombia, Dominican Republic, Ecuador, El Salvador, and Mexico.

The Department of Labor contacted a company official to verify this information. The company official stated that the subject firm did not shift production of cigarettes abroad during the relevant period. Furthermore, the company official clarified that the subject firm manufactured cigarettes for export to an unaffiliated customer until December 2008. The investigation also revealed that the subject firm ended their manufacturing agreement with this customer and that the customer might manufacture cigarettes for foreign markets in the countries as indicated by the petitioner above.

The fact that subject firm's customer might have shifted its production abroad is not relevant to this investigation. According to section (a)(2)(B) of the Trade Act, in order to be eligible for TAA on the basis of a shift in production abroad, the shift in production must be implemented by the subject firm or its subdivision.

Furthermore, the investigation revealed that neither the subject firm nor its customers increased imports of cigarettes during the relevant period.

Conclusion

After reconsideration, I affirm the original notice of negative determination of eligibility to apply for worker adjustment assistance for workers and former workers of Philip Morris USA, Cabarrus Manufacturing Plant, a subsidiary of Altria Group Inc., Concord, North Carolina.

Signed at Washington, DC, this 4th day of May 2009.
Elliott S. Kushner,
Certifying Officer, Division of Trade Adjustment Assistance.

[FR Doc. E9-11428 Filed 5-15-09; 8:45 am]

BILLING CODE 4510-FN-P